INTERNATIONAL TRADE COMMISSION

[USITC SE-07-022]

Sunshine Act Meeting

Agency Holding The Meeting: United States International Trade Commission.

Time and Date: November 9, 2007 at 11 a.m.

Place: Room 101, 500 E Street SW., Washington, DC 20436, Telephone: (202) 205-2000.

Status: Open to the public.

Matters To Be Considered:

1. Agenda for future meetings: none.

2. Minutes.

3. Ratification List.

4. Inv. Nos. 731-TA-1131-1134 (Preliminary) (Polyethylene Terephthalate (PET) Film, Sheet, and Strip from Brazil, China, Thailand, and the United Arab Emirates)—briefing and vote. (The Commission is currently scheduled to transmit its determinations to the Secretary of Commerce on or before November 13, 2007; Commissioners' opinions are currently scheduled to be transmitted to the Secretary of Commerce on or before November 20, 2007.)

5. Outstanding action jackets: none.

In accordance with Commission policy, subject matter listed above, not disposed of at the scheduled meeting, may be carried over to the agenda of the following meeting.

Issued: October 29, 2007.
By order of the Commission.
William R. Bishop,
Hearings and Meetings Coordinator.

[FR Doc. E7-21736 Filed 11-5-07; 8:45 am

BILLING CODE 7020-02-P